DEPARTMENT OF COMMERCE

National Oceanic and Atmospheric Administration

[File No. 13602]

RIN 0648-XK54

Marine Mammals

AGENCY: National Marine Fisheries Service (NMFS), National Oceanic and Atmospheric Administration (NOAA), Commerce.

ACTION: Notice; requested changes to application for permit amendment.

SUMMARY: Notice is hereby given that Dr. Terrie Williams, Long Marine Lab, Institute of Marine Sciences, University of California at Santa Cruz, 100 Shaffer Road, Santa Cruz, CA 95060, has requested a change to the application for an amendment to Scientific Research Permit No. 13602.

DATES: Written, telefaxed, or e-mail comments must be received on or before January 7, 2011.

ADDRESSES: The application and related documents are available for review by selecting “Records Open for Public Comment” from the Features box on the Applications and Permits for Protected Species home page, https://apps.nmfs.noaa.gov, and then selecting File No. 13602 from the list of available applications.

These documents are also available upon written request or by appointment in the following offices:

Permits, Conservation and Education Division, Office of Protected Resources, NMFS, 1315 East-West Highway, Room 13705, Silver Spring, MD 20910; phone (301) 713-2289; fax (301) 713-0376; and Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Sloan or Jennifer Skidmore, (301) 713-2289.

SUPPLEMENTARY INFORMATION: The subject amendment to Permit No. 13602 was requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

On May 20, 2010 (75 FR 28236), notice was published that an amendment to Permit No. 13602, issued on September 4, 2009 (74 FR 46569), had been requested by the permit holder to include physiological research on up to 18 captive Hawaiian monk seals (Monachus schauinslandi) in facilities in the United States, and opportunistic energetic assessments on stranded ESA-listed marine mammals in rehabilitation in California, using methods currently approved in Permit No. 13602. The applicant is requesting permission to hold up to three Hawaiian monk seals at Long Marine Laboratory at any given time, an increase of one animal from that described in the amendment application. The amendment is requested for the duration of the permit.

Concurrent with the publication of this notice in the Federal Register, NMFS is forwarding copies of this application to the Marine Mammal Commission and its Committee of Scientific Advisors.

Dated: December 1, 2010.
P. Michael Payne,
Chief, Permits, Conservation and Education Division, Office of Protected Resources, National Marine Fisheries Service.

[FR Doc. 2010-30873 Filed 12-7-10; 8:45 am]

BILLING CODE 3510-22-P